DEPARTMENT OF HEALTH AND HUMAN SERVICES

Health Resources and Services Administration

Agency Information Collection Activities: Proposed Collection: Public Comment Request HRSA Ryan White HIV/AIDS Program Part F AIDS Education and Training Center Program Evaluation Activities, OMB No. 0915-0281—Extension

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than April 18, 2022.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the acting HRSA Information Collection Clearance Officer at (301) 443-9094.

SUPPLEMENTARY INFORMATION: When submitting comments or requesting information, please include the information request collection title for reference, pursuant to the Paperwork Reduction Act of 1995.

Information Collection Request Title: HRSA AIDS Education and Training Center Evaluation Activities, OMB No. 0915-0281—Extension.

Abstract: The Ryan White HIV/AIDS Program's (RWHAP) AIDS Education and Training Center (AETC) Program, authorized under Title XXVI of the Public Health Service Act, supports a network of regional and national centers that conduct targeted, multi-disciplinary education and training programs for health care providers treating people with HIV. The RWHAP AETC Program's purpose is to increase the number of health care providers who are effectively educated and motivated to counsel, diagnose, treat, and medically manage people with HIV.

The RWHAP AETC Program recipients gather data on the training activities they conduct using two data collection instruments. The Event Record (ER) gathers information about each training activity including training programs, individual clinical consultations, group clinical consultations, and technical assistance events. Information on the people trained, the length of training, the content and level of the training and collaborations with other organizations is also collected. The Participant Information Form (PIF) collects information from each of the training participants, including demographics, profession, the types of HIV services they provide, and the characteristics of the patient population they serve. The RWHAP AETC Program recipients are required to report aggregated data on the training activities and trainees to HRSA once a year. HRSA is requesting an extension of the current ER and PIF with minor changes. To more accurately capture the length of a training event, RWHAP AETC trainers will be asked to report the event's end date in addition to the start date on the ER. Additionally, if an event was not supported by RWHAP AETC core funding, respondents will be able to skip three subsequent questions on the ER that are not applicable. Respondents will have the option to report multiple clinic and health professional program identification numbers to reflect multiple affiliations on the ER. Additional options were added for seven questions in the ER to allow for more complete responses (e.g., an “other” response option was added to two questions). In addition to changes on the ER, minor revisions were made to the response options for multiple questions on the PIF to improve clarity (e.g., “Substance Abuse” was changed to “Substance Use Disorder”).

Need and Proposed Use of the Information: HRSA uses the data collected when conducting RWHAP AETC programmatic assessments to determine future program needs. These data allow HRSA to identify where gaps exist in training HIV professionals as well as to measure whether training events are meeting the goals of the National HIV/AIDS Strategy.

Likely Respondents: RWHAP AETC trainees complete the PIF either at the start or at conclusion of an event. Trainers complete an ER for each training event they conduct during the year. In addition, each regional RWHAP AETC (eight total) and the RWHAP AETC National Coordinating Resource Center compile these data once a year for submission to HRSA.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

The estimated annual response burden to trainers, as well as attendees of training programs, is as follows:

Total Estimated Annualized Burden Hours
Form name | Number of respondents | Number of responses per respondent | Total responses | Average burden per response (in hours) | Total burden hours
Participant Information Form | 164,385 | 1 | 164,385 | 0.167 | 27,452
Event Record | 12,980 | 1 | 12,980 | 0.200 | 2,596
Aggregate Data Set | 8 | 1 | 8 | 32.000 | 256
Total | 177,373 |  | 177,366 |  | 30,304

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2022-03206 Filed 2-14-22; 8:45 am]

BILLING CODE 4165-15-P